DEPARTMENT OF EDUCATION

Notice of Waivers Granted Under Section 9401 of the Elementary and Secondary Education Act of 1965, as Amended

SUMMARY: In this notice, we announce the waivers that the U.S. Department of Education (Department) granted during calendar year 2008 under the waiver authority in section 9401 of the Elementary and Secondary Education Act of 1965 (ESEA), as amended.

In 2008, the Department granted a total of 51 waivers under the ESEA section 9401 waiver authority. The waivers granted were as follows: (1) Four waivers related to Hurricanes Katrina, Rita, and Ike; (2) two new waivers allowing implementation of the “growth model pilot,” and nine extensions of existing waivers to continue implementation of a “growth model pilot”; (3) six new waivers allowing implementation of the “differentiated accountability model pilot”; (4) one new waiver and four continuations of existing waivers allowing local educational agencies (LEAs) in need of improvement to be eligible to apply to their State educational agency (SEA) to become supplemental educational services (SES) providers; (5) four new waivers and three continuations of existing waivers allowing LEAs to provide SES to eligible students attending schools that receive funding under Title I, Part A of the ESEA (Title I schools) and are in the first year of school improvement; (6) one Title I schoolwide eligibility waiver; (7) one Title I, Part A within-district allocation waiver; (8) one waiver of the ESEA transferability rules; (9) one “local-flex” waiver; (10) four waivers to the Consolidated Grants restrictions; and (11) ten waivers allowing recipients of funds under the Indian Education program to charge additional administrative costs to the program.

Waiver Data:

Waivers Related to Hurricanes Katrina, Rita, and Ike

1. Waiver Applicant: Louisiana Department of Education.

• Provision waived: Tydings Amendment, section 421(b) of the General Education Provisions Act (GEPA).

• Date waiver granted: May 6, 2008.

• Description of waiver: Extended until September 30, 2009 the period of availability for fiscal year 2006 funds for all programs authorized under the ESEA.

2. Waiver Applicant: Mississippi Department of Education.

• Provision waived: Tydings Amendment, section 421(b) of GEPA.

• Date waiver granted: October 7, 2008.

• Description of waiver: Extended until September 30, 2009 the period of availability for fiscal year 2006 Title II, Part A funds.

3. Waiver Applicant: Mississippi Department of Education.

• Provision waived: Tydings Amendment, section 421(b) of GEPA.

• Date waiver granted: October 7, 2008.

• Description of waiver: Extended until September 30, 2009 the period of availability for fiscal year 2006 Title I, Part B, Subpart 1 funds.

4. Waiver Applicant: Texas Education Agency.

• Provision waived: Tydings Amendment, section 421(b) of GEPA.

• Date waiver granted: October 9, 2008.

• Description of waiver: Extended until September 30, 2009 the period of availability for fiscal year 2006 Title I, Part B, Subpart 1 funds.

II. “Growth Model Pilots”

New Applicants:

1. Waiver Applicant: Michigan Department of Education.

• Provision waived: Section 1111(b)(2) of the ESEA.

• Date waiver granted: June 10, 2008.

• Description of waiver: Provided Michigan the flexibility to implement a growth-based accountability model as part of determining adequate yearly progress (AYP) beginning in the 2007-2008 school year.

2. Waiver Applicant: Missouri Department of Education.

• Provision waived: Section 1111(b)(2) of the ESEA.

• Date waiver granted: June 10, 2008.

• Description of waiver: Provided Missouri the flexibility to implement a growth-based accountability model as part of determining AYP beginning in the 2007-2008 school year, conditioned upon Missouri's adopting a uniform minimum group size for all subgroups, including students with disabilities and limited English proficient students.

Continuation Applicants:

1. Waiver Applicant: Alaska Department of Education.

• Provision waived: Section 1111(b)(2) of the ESEA.

• Date waiver granted: July 25, 2008.

• Description of waiver: Extended Alaska the flexibility to continue to use a growth-based accountability model as part of determining AYP in 2008-2009 based on assessments administered in the 2007-2008 school year.

2. Waiver Applicant: Arizona Department of Education.

• Provision waived: Section 1111(b)(2) of the ESEA.

• Date waiver granted: July 25, 2008.

• Description of waiver: Extended Arizona the flexibility to continue to use a growth-based accountability model as part of determining AYP in 2008-2009 based on assessments administered in the 2007-2008 school year.

3. Waiver Applicant: Arkansas Department of Education.

• Provision waived: Section 1111(b)(2) of the ESEA.

• Date waiver granted: July 25, 2008.

• Description of waiver: Extended Arkansas the flexibility to continue to use a growth-based accountability model as part of determining AYP in 2008-2009 based on assessments administered in the 2007-2008 school year.

4. Waiver Applicant: Delaware Department of Education.

• Provision waived: Section 1111(b)(2) of the ESEA.

• Date waiver granted: July 25, 2008.

• Description of waiver: Extended Delaware the flexibility to continue to use a growth-based accountability model as part of determining AYP in 2008-2009 based on assessments administered in the 2007-2008 school year.

5. Waiver Applicant: Florida Department of Education.

• Provision waived: Section 1111(b)(2) of the ESEA.

• Date waiver granted: July 25, 2008.

• Description of waiver: Extended Florida the flexibility to continue to use a growth-based accountability model as part of determining AYP in 2008-2009 based on assessments administered in the 2007-2008 school year.

6. Waiver Applicant: Iowa Department of Education.

• Provision waived: Section 1111(b)(2) of the ESEA.

• Date waiver granted: July 25, 2008.

• Description of waiver: Extended Iowa the flexibility to continue to use a growth-based accountability model as part of determining AYP in 2008-2009 based on assessments administered in the 2007-2008 school year.

7. Waiver Applicant: North Carolina Department of Education.

• Provision waived: Section 1111(b)(2) of the ESEA.

• Date waiver granted: July 25, 2008.

• Description of waiver: Extended North Carolina the flexibility to continue to use a growth-based accountability model as part of determining AYP in 2008-2009 based on assessments administered in the 2007-2008 school year.

8. Waiver Applicant: Ohio Department of Education.

• Provision waived: Section 1111(b)(2) of the ESEA.

• Date waiver granted: July 25, 2008.

• Description of waiver: Extended Ohio the flexibility to continue to use a growth-based accountability model as part of determining AYP in 2008-2009 based on assessments administered in the 2007-2008 school year.

9. Waiver Applicant: Tennessee Department of Education.

• Provision waived: Section 1111(b)(2) of the ESEA.

• Date waiver granted: July 25, 2008.

• Description of waiver: Extended Tennessee the flexibility to continue to use a growth-based accountability model as part of determining AYP in 2008-2009 based on assessments administered in the 2007-2008 school year.

III. “Differentiated Accountability Model Pilots”

1. Waiver Applicant: Florida Department of Education

• Provision waived: Section 1116 of the ESEA.

• Date waiver granted: July 1, 2008.

• Description of waiver: Provided Florida the flexibility to include its differentiated accountability model as a part of its system of school improvement interventions based on assessment results from the 2007-2008 school year.

2. Waiver Applicant: Georgia Department of Education.

• Provision waived: Section 1116 of the ESEA.

• Date waiver granted: July 1, 2008.

• Description of waiver: Provided Georgia the flexibility to include its differentiated accountability model as a part of its system of school improvement interventions based on assessment results from the 2007-2008 school year.

3. Waiver Applicant: Illinois Department of Education.

• Provision waived: Section 1116 of the ESEA.

• Date waiver granted: July 1, 2008.

• Description of waiver: Provided Illinois the flexibility to include its differentiated accountability model as a part of its system of school improvement interventions based on assessment results from the 2007-2008 school year.

4. Waiver Applicant: Indiana Department of Education.

• Provision waived: Section 1116 of the ESEA.

• Date waiver granted: July 1, 2008.

• Description of waiver: Provided Indiana the flexibility to include its differentiated accountability model as a part of its system of school improvement interventions based on assessment results from the 2007-2008 school year.

5. Waiver Applicant: Maryland Department of Education.

• Provision waived: Section 1116 of the ESEA.

• Date waiver granted: July 1, 2008.

• Description of waiver: Provided Maryland the flexibility to include its differentiated accountability model as a part of its system of school improvement interventions based on assessment results from the 2007-2008 school year.

6. Waiver Applicant: Ohio Department of Education.

• Provision waived: Section 1116 of the ESEA.

• Date waiver granted: July 1, 2008.

• Description of waiver: Provided Ohio the flexibility to include its differentiated accountability model as a part of its system of school improvement interventions based on assessment results from the 2007-2008 school year.

IV. Allowing LEAs in Need of Improvement To Be Eligible To Apply to Their SEA To Become Supplemental Educational Services (SES) Providers

New Applicant:

1. Waiver Applicant: Charlotte-Mecklenburg Schools, NC.

• Provision waived: 34 CFR 200.47(b)(1)(iv)(B).

• Date waiver granted: August 4, 2008.

• Description of waiver: Permitted Charlotte-Mecklenburg Schools to be eligible to apply to its SEA to become a provider of SES to eligible students during the 2008-2009 school year even though the LEA was identified for improvement.

Continuation Applicants:

1. Waiver Applicant: Anchorage School District, AK.

• Provision waived: 34 CFR 200.47(b)(1)(iv)(B).

• Date waiver granted: August 4, 2008.

• Description of waiver: Permitted the Anchorage School District to continue to be eligible to apply to its SEA to become a provider of SES to eligible students during the 2008-2009 school year even though the LEA was identified for improvement.

2. Waiver Applicant: Boston Public Schools, MA.

• Provision waived: 34 CFR 200.47(b)(1)(iv)(B).

• Date waiver granted: August 4, 2008.

• Description of waiver: Permitted Boston Public Schools to continue to be eligible to apply to its SEA to become a provider of SES to eligible students during the 2008-2009 school year even though the LEA was identified for improvement.

3. Waiver Applicant: Chicago Public Schools, IL.

• Provision waived: 34 CFR 200.47(b)(1)(iv)(B).

• Date waiver granted: August 4, 2008.

• Description of waiver: Permitted Chicago Public Schools to continue to be eligible to apply to its SEA to become a provider of SES to eligible students during the 2008-2009 school year even though the LEA was identified for improvement.

4. Waiver Applicant: Hillsborough County Public Schools, FL.

• Provision waived: 34 CFR 200.47(b)(1)(iv)(B).

• Date waiver granted: August 4, 2008.

• Description of waiver: Permitted Hillsborough County Public Schools to continue to be eligible to apply to its SEA to become a provider of SES to eligible students during the 2008-2009 school year even though the LEA was identified for improvement.

V. Allowing LEAs to Provide SES to Eligible Students in Title I Schools in the First Year of School Improvement

New Applicants:

1. Waiver Applicant: Alabama Department of Education.

Provisions waived: Sections 1116(b)(1)(E) and 1116(b)(5)(B) of the ESEA.

• Date waiver granted: August 1, 2008.

• Description of waiver: For the 2008-2009 school year, permitted all LEAs in Alabama to offer SES, rather than, or in addition to, public school choice, to eligible students in Title I schools in the first year of school improvement.

2. Waiver Applicant: Arkansas Department of Education.

• Provisions waived: Sections 1116(b)(1)(E) and 1116(b)(5)(B) of the ESEA.

• Date waiver granted: August 1, 2008.

• Description of waiver: For the 2008-2009 school year, permitted all LEAs in Arkansas to offer SES, rather than public school choice, to eligible students in Title I schools in the first year of school improvement.

3. Waiver Applicant: Tennessee Department of Education.

• Provisions waived: Sections 1116(b)(1)(E) and 1116(b)(5)(B) of the ESEA.

• Date waiver granted: August 1, 2008.

• Description of waiver: For the 2008-2009 school year, permitted all LEAs in Tennessee to offer SES, in addition to public school choice, to eligible students in Title I schools in the first year of school improvement.

4. Waiver Applicant: Utah Department of Public Instruction.

• Provisions waived: Sections 1116(b)(1)(E) and 1116(b)(5)(B) of the ESEA.

• Date waiver granted: August 1, 2008.

• Description of waiver: For the 2008-2009 school year, permitted all LEAs in Utah to offer SES, rather than public school choice, to eligible students in Title I schools in the first year of school improvement.

Continuation Applicants:

1. Waiver Applicant: Alaska Department of Education and Early Development.

• Provisions waived: Sections 1116(b)(1)(E) and 1116(b)(5)(B) of the ESEA.

• Date waiver granted: August 1, 2008.

• Description of waiver: For the 2008-2009 school year, permitted five LEAs—Anchorage School District, Fairbanks North Star Borough, Juneau Borough, Kenai Peninsula Borough, and Matanuska-Susitna Borough—to offer SES, rather than public school choice, to eligible students in Title I schools in the first year of school improvement.

2. Waiver Applicant: North Carolina Department of Public Instruction.

• Provisions waived: Sections 1116(b)(1)(E) and 1116(b)(5)(B) of the ESEA.

• Date waiver granted: August 1, 2008.

• Description of waiver: For the 2008-2009 school year, continue to allow all LEAs in North Carolina to offer SES, rather than public school choice, to eligible students in Title I schools in the first year of school improvement.

3. Waiver Applicant: Virginia Department of Education.

• Provisions waived: Sections 1116(b)(1)(E) and 1116(b)(5)(B) of the ESEA.

• Date waiver granted: August 1, 2008.

• Description of waiver: For the 2008-2009 school year, permitted 14 LEAs—Albemarle County, Alexandria City, Fairfax County, Fauquier County, Fluvanna County, Hampton City, Harrisonburg City, Henrico County, Loudoun County, Manassas City, Martinsville City, Richmond City, Spotsylvania County, and Williamsburg-James City County—to offer SES, rather than public school choice, to eligible students in Title I schools in the first year of school improvement.

VI. Schoolwide Eligibility Waiver

1. Waiver Applicant: Berkeley County Schools, WV.

• Provision waived: Section 1114(a) of the ESEA.

• Date waiver granted: June 25, 2008.

• Description of waiver: Permits an elementary school to implement a Title I schoolwide program even though fewer than 40 percent of its students are from low-income families.

VII. Title I Within-District Allocation Waiver

1. Waiver Applicant: Henry County School District, GA.

• Provisions waived: Sections 1113(a) and (b) of the ESEA.

• Date waiver granted: April 10, 2008.

• Description of waiver: Allows the LEA to skip a newly opening school in order to serve an existing Title I school with a slightly lower poverty rate for one additional year.

VIII. Transferability Waiver

1. Waiver Applicant: New York State Department of Education.

• Provision waived: Section 6123(a) of the ESEA.

• Date waiver granted: August 14, 2008.

• Description of waiver: Permits the State to transfer certain Title II, Part A funds for State-level activities to its Title I, Part A administrative reserve.

IX. Local-Flexibility Demonstration Program

1. Waiver Applicant: Seattle Public Schools, WA.

• Provision waived: Section 6154(a)(1) of the ESEA.

• Date waiver granted: September 29, 2008.

• Description of waiver: Waives the requirement that precludes the LEA from continuing to implement its local-flex agreement because it failed to make AYP for two consecutive years.

X. Consolidated Grant Restrictions

1. Waiver Applicant: American Samoa Department of Education, ASDE.

• Provision waived: 34 CFR 76.136 and 76.137.

• Date waiver granted: September 26, 2008.

• Description of waiver: Provided ASDE the flexibility to use funds under its Fiscal Year 2008 consolidated grant for programs under Title V, Part A of the ESEA.

2. Waiver Applicant: Guam Public School Systems, GPSS.

• Provision waived: 34 CFR 76.136 and 76.137.

• Date waiver granted: September 26, 2008.

• Description of waiver: Provided GPSS the flexibility to use funds under its Fiscal Year 2008 consolidated grant for programs under Title V, Part A of the ESEA.

3. Waiver Applicant: Commonwealth of the Northern Mariana Islands Public School System, CNMI.

• Provision waived: 34 CFR 76.136 and 76.137.

• Date waiver granted: September 26, 2008.

• Description of waiver: Provided CNMI the flexibility to use funds under its Fiscal Year 2008 consolidated grant for programs under Title V, Part A of the ESEA.

4. Waiver Applicant: Virgin Islands Department of Education, VIDE.

• Provision waived: 34 CFR 76.136 and 76.137.

• Date waiver granted: November 13, 2008.

• Description of waiver: Provided VIDE the flexibility to use funds under its Fiscal Year 2008 consolidated grant for programs under Title V, Part A of the ESEA.

XI. Waivers of the Administrative Cost Limitation That Applies to Indian Education Funds

On May 29, 2008, the Department granted the following LEAs waivers of section 7115(d) of the ESEA, which establishes a five percent administrative cost limitation on funds awarded under the Indian Education formula grant program:

• Kenai Peninsula Borough Schools, AK.

• San Carlos Unified School District, AZ.

• Whiteriver Unified School District, AZ.

• Ventura Unified School District, CA.

• Little Axe Public Schools, OK.

• Muskogee Public Schools, OK.

• Oolagah-Talala Public Schools, OK.

• Sulphur Public Schools, OK.

• Tulsa Public Schools, OK.

• Spokane Public Schools (School District 81), WA.

FOR FURTHER INFORMATION CONTACT: Luz Curet, U.S. Department of Education, 400 Maryland Avenue, SW., Room 3W344, Washington, DC 20202. Telephone: (202) 205-3728 or by e-mail: luz.curet@ed.gov.

If you use a telecommunications device for the deaf (TDD), call the Federal Relay Service (FRS), toll free, at 1-800-877-8339. Individuals with disabilities can obtain this document in an accessible format (e.g., braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Delegation of Authority: The Secretary of Education has delegated authority to Joseph C. Conaty, Director, Academic Improvement and Teacher Quality Programs for the Office of Elementary and Secondary Education, to perform the functions of the Assistant Secretary for Elementary and Secondary Education.

Dated: May 12, 2009.
Joseph C. Conaty,
Director, Academic Improvement and Teacher Quality Programs.

[FR Doc. E9-11413 Filed 5-14-09; 8:45 am]

BILLING CODE 4000-01-P